DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 84 FR 10518-10519, dated March 21, 2019) is amended to reflect the reorganization of the National Institute for Occupational Safety and Health (NIOSH), Centers for Disease Control and Prevention. The reorganization is needed to provide streamlined and focused research programs in Cincinnati, as well as to better deliver administrative and management functions by the Office of Administrative and Management Services within the NIOSH Office of the Director.

I. Under Part C, Section C-B, Organization and Functions, the following organizational units are deleted in their entirety:

• Office of Administrative and Management Services (CCA1)

• Administrative Services Branch (Pittsburgh) (CCA12)

• Administrative Services Branch (Cincinnati) (CCA13)

• Administrative Services Branch (Spokane) (CCA14)

• Management Systems Branch (CCA15)

• Administrative Services Branch (Morgantown) (CCA16)

• Health Communication Research Branch (CCCJ)

• Document Development Branch (CCED)

• Division of Applied Research and Technology (CCG)

II. Under Part C, Section C-B, Organization and Functions, make the following changes:

• Create the Office of the Deputy Director for Management (CCA6)

• Create the Human Capital Management Office (CCA62)

• Create the Facilities Management Office (CCA63)

• Create the Fiscal Resources Management Office (CCA64)

• Create the Information Technology and Informatics Services Office (CCA65)

• Create the Policy, Planning, and Evaluation Office (CCA66)

• Retitle all references to the Engineering and Control Branch (CCCE) to the Physical Effects Research Branch (CCCE)

• Retitle all references to the Biostatistics and Epidemiology Branch (CCCH) to the Bioanalytics Branch (CCCH)

• Create the Chemical and Biological Monitoring Branch (CCCK)

• Retitle all references to the Education and Information Division (CCE) to the Division of Science Integration (CCE)

• Retitle all references to the Information Resources and Dissemination Branch (CCEB) to the Science Applications Branch (CCEB)

• Retitle all references to the Training Research and Evaluation Branch (CCEC) to the Social Science and Translation Research Branch (CCEC)

• Create the Emerging Technologies Branch (CCEG)

• Retitle all references to the Division of Surveillance, Hazard, Evaluations, and Field Studies (CCK) to the Division of Field Studies and Engineering (CCK)

• Retitle all references to the Industrywide Studies Branch (CCKC) to the Field Research Branch (CCKC)

• Retitle all references to the Surveillance Branch (CCKD) to the Health Informatics Branch (CCKD)

• Create the Engineering and Physical Hazards Branch (CCKE)

III. Under Part C, Section C-B, Organization and Functions, insert the following:

• Office of the Deputy Director for Management (CCA6): Provides leadership, direction, guidance and support across the Institute in the areas of: (1) Information technology and informatics; (2) facilities management; (3) policy, planning and evaluation; (4) fiscal resources management; and (5) human capital management.

• Human Capital Management Office (CCA62): (1) Serves as the Institute's focal point for Strategic Human Capital Management activities that promote and retain a high-performing, diverse and engaged workforce; (2) coordinates and advises on human capital programs and initiatives; (3) conducts strategic human capital planning activities to ensure all human capital programs are aligned with agency missions, goals, and objectives through analysis, planning, investment, and measurement; (4) implements talent management initiatives to ensure that the Institute has the right people with the right skills in the right position at the right time to accomplish the Institute's mission; (5) creates and sustains a performance culture that engages, develops, retains and inspires a diverse, high-performing workforce by creating, implementing, and maintaining effective performance management and incentive strategies, practices, and activities; (6) initiates labor-management activities that promote a shared vision of mission accomplishment through partnerships with labor unions; (7) provides programs and initiatives that support an engaged and healthy NIOSH workforce; and (8) performs human capital support functions to include monitoring and tracking recruitment and placement activities, maintaining position-based management systems, conducting new NIOSH employee onboarding and orientation, approving incentive and performance awards, planning and implementing awards programs, ensuring manager and supervisor compliance in areas of performance management, managing and providing NIOSH-specific training opportunities, and other human capital support advice, activities and functions.

• Facilities Management Office (CCA63): (1) Provides leadership, guidance, direction and support for all Facilities Engineering and Environmental Safety and Health functions across the Institute; (2) provides and/or oversees comprehensive facilities operations, maintenance, and support functions for the offices, laboratories, and grounds at NIOSH facilities (Cincinnati, Morgantown, Pittsburgh, and Spokane); (3) serves as the focal point on matters of internal security and safety including facilities security coordination, smart card/ID card issuance and control, access to facilities, and in/out processing; and (4) provides inventory and property management control activities at NIOSH field locations.

• Fiscal Resources Management Office (CCA64): (1) Provides fiscal expertise and oversight to the Institute, divisions and geographic locations across the Institute; (2) provides for sound fiscal stewardship, and ensures compliance with Appropriation Law and all HHS, CDC, NIOSH policies; (3) ensures the most efficient and appropriate allocation of fiscal resources to support NIOSH's research; and (4) handles budget planning and execution oversight, acquisition policy and oversight, and business services oversight for travel management, ICAP processing, P-card and travel card compliance, and timekeeping.

• Information Technology and Informatics Services Office (CCA65): (1) Provides expertise in enterprise architecture, IT policy and planning, data architecture and administration, IT lifecycle management, and subject matter expertise supporting analytical software and the NIOSH Analytical Data Warehouse program; (2) provides information security and resources for NIOSH IT and data security needs across the Institute; (3) provides management of the NIOSH technology platforms providing data, application and analytical services to NIOSH divisions while performing administrative security and patching functions on behalf of the NIOSH user community; (4) provides specialized ready-to-use application platforms, design support and subject matter expertise to NIOSH divisions for core application platforms providing database, analytical, visualization and web services; and (5) supports NIOSH divisions with IT policy, business process development and project management services including compliance requirements for the Federal Information Technology Acquisition Reform Act, the Enterprise Performance Life Cycle, Data Governance and the National Archives and Records Administration.

• Policy, Planning, and Evaluation Office (CCA66): (1) Provides leadership and coordination of the Institute's planning, evaluation, legislative, committee management, and policy activities; (2) provides technical assistance to NIOSH scientists; (3) designs and carries out evaluation studies based on evidence-based evaluation methodologies, and advances the ways NIOSH demonstrates the relevance and impact of its work; (4) ensures budget formulation through the Congressional budget and appropriations process, and coordinates responses to requests from Congress, OMB, HHS, and others; (5) coordinates FOIA and Privacy Act responses; (6) oversees and coordinates project planning, strategic planning, research program portfolio management, and program evaluation across the Institute; and (7) provides oversight for Committee Management for NIOSH's two main Federal Advisory Committee Act responsibilities (the Board of Scientific Counselors and the Mine Safety and Health Research Advisory Committee).

• Physical Effects Research Branch (CCCE): (1) Provides research capabilities for developing and establishing engineering solutions for the control of occupational disease; (2) coordinates with the Exposure Assessment Branch to develop engineering techniques to solve problems in measuring and monitoring programs; (3) develops and utilizes techniques in computerized workplace simulations and mathematical models; (4) develops passive protective devices and systems for preventing or minimizing worker exposure to hazardous chemical, biological, and physical substances; and (5) develops sophisticated personal protective equipment to provide workers with information about their working environment.

• Bioanalytics Branch (CCCH): (1) Provides experimental design and support of laboratory-based research to address the statistical aspects of projects in the Division and throughout the Institute; (2) verifies the statistical quality, both in the design and analysis phases, of all experimental research in the Institute; (3) develops and directs the application of new statistical methods as well as the design and analysis of field research projects for the Institute; (4) develops computerized methods for independent research initiatives in statistical methods to advance basic research in experimental and observational studies; and (5) collaborates in the design of laboratory and field research studies, providing consultation through the course of research on computerized methods of data collection and interpretation of results.

• Chemical and Biological Monitoring Branch (CCCK): (1) Conducts applied research and establishes the methods for the identification and assessment of occupational exposures using biomonitoring, industrial hygiene field- and laboratory-based analytical methods, direct reading instruments and sensors, advanced microscopy techniques, and aerosol science; and (2) serves as an Institutional resource and collaborates with internal and external partners as related to application of these areas for occupational exposure assessment research focusing on novel and emerging issues.

• Division of Science Integration (CCE): (1) Conducts research that will lead to the prevention of occupational disease, deaths, and injuries through the evaluation and synthesis of scientific information, and forecasting the emergence of technologies that impact work, how work is organized, and how to stimulate change in the work environment; (2) researches and develops preventive outcomes so that workers are protected from workplace hazards; (3) identifies factors that impact the conduct of work and that are potentially harmful to workers and the workforce; (4) develops recommendations and guidance for safe and best practices by building on research, evaluation, synthesis of information, and collaboration across branches and programs; and (5) conducts studies of the most effective ways to translate research and guidance to practice through utilization of hazard and risk information to apprise employers, workers, and decision makers of the extent and severity of workplace risks to be prevented and the means to do so.

• Science Applications Branch (CCEB): (1) Develops interventions and preventive guidance to protect the workforce from adverse effects of work and workplace hazards through the evaluation and synthesis of scientific research; (2) conducts research to address the range of workplace hazards in their chemical, physical, and biological forms and conducts research on the organization of work, which will lead to the development of guidance on various hazards and analytical methods; and (3) prioritizes and informs guidance development through the use of risk assessments and exposure science.

• Social Science and Translation Research Branch (CCEC): (1) Conducts research on work and non-work factors that lead to adverse effects in workers and develops guidance to ameliorate those factors through focusing on understanding and investigating the environment of work; (2) conducts research on how work is organized and the implications for health, productivity, and prevention; (3) provides leadership via a virtual cross-Institute effort in translation research which is the application of scientific investigative approaches to study how the outputs of basic and applied research can be effectively translated into practice and have an impact, including the study of how useful knowledge and interventions are disseminated, adopted, implemented and institutionalized; and (4) conducts research and develops guidance on vulnerable populations including young, aging, contingent, and immigrant workers, and small businesses.

• Emerging Technologies Branch (CCEG): (1) Conducts research and gathers information that facilitates forecasting, identifying, evaluating, and developing guidance on potential hazards in new or emergent technologies; (2) collaborates with other branches, divisions, programs, and agencies that research and investigate new technologies to identify and increase understanding of hazards as a technology emerges and information on it as it is deployed; (3) conducts research addressing nanotechnology, advanced manufacturing and materials, synthetic and engineered biology, and other technologies as they emerge; (4) manages and coordinates the Nanotechnology Research Center; and (5) develops recommendations and guidance, utilizing Prevention through Design (PtD) concepts, and leads the PtD program.

• Division of Field Studies and Engineering (CCK): (1) Conducts the legislatively mandated health hazard evaluation and industry-wide research programs through longitudinal record-based studies and field studies to identify the occupational causes of disease in working populations and their offspring, and determines the incidence and prevalence of acute and chronic effects from work-related exposures to hazardous substances; (2) conducts exposure, epidemiologic, and engineering research for input to standards to control occupational health hazards; (3) plans and conducts worksite and laboratory engineering research to identify, evaluate, develop and implement technology to prevent workers' exposures to chemical, biological, and physical agents; (4) plans and conducts laboratory and worksite research to develop strategies to prevent occupational hearing loss and musculoskeletal disorders; (5) develops and maintains data systems, using national and state data, that track the magnitude and extent of job-related illnesses, exposures, and hazardous agents among the nation's workers; (6) provides support for first responders during national emergency response activities; and (7) provides technical assistance and consultation on matters pertaining to occupational safety and health to other Federal, state, and local agencies, and other groups or individuals.

• Field Research Branch (CCKC): (1) Conducts and supports etiologic and exposure assessment research studies in working populations; (2) communicates research results to workers, scientists, industry, and the public; (3) provides research data for the development of health hazard controls and protective standards; and (4) conducts research using workers' compensation data and systems to identify hazards and improve workplace safety and health.

• Health Informatics Branch (CCKD): (l) Develops, maintains, and uses data and record systems to track the magnitude and extent of job-related illnesses and exposures among the nation's workers using new and existing data from sources such as Federal, State, and local agencies, labor, industry, tumor registries, medical, laboratory, and other records; (2) uses novel research methods to identify and develop, or in certain instances, support the development of new sources of data for surveillance and research purposes; (3) develops new surveillance research methods; and (4) uses new technologies to communicate health and exposure information to stakeholders and the public.

• Engineering and Physical Hazards Branch (CCKE): (1) Plans and conducts research on engineering control technology to prevent worker exposures to hazards and promotes the application of effective engineering control technologies for safeguarding worker health and safety; (2) provides consultation in the application of effective control solutions and techniques for hazard prevention; (3) conducts research related to occupational hearing loss, including causative factors, noise control, hearing protection devices, and impulse noise to prevent occupational hearing loss for workers at risk in non-mining sectors; (4) conducts research related to ergonomic hazards including developing engineering controls in the laboratory and evaluating their effectiveness in the workplace to prevent workplace musculoskeletal disorders; and (5) conducts rapid prototype research to design and develop control solutions to workplace exposure problems.

IV. Delegations of Authority: All delegations and redelegations of authority made to officials and employees of affected organizational components will continue with them or their successors pending further redelegation, provided they are consistent with this reorganization.

(Authority: 44 U.S.C. 3101)

Alex M. Azar II,
Secretary.

[FR Doc. 2019-07035 Filed 4-9-19; 8:45 am]

BILLING CODE 4160-18-P